DEPARTMENT OF HEALTH AND HUMAN SERVICES

Centers for Disease Control and Prevention

Disease, Disability, and Injury Prevention and Control Special Emphasis Panel (SEP): Miner Safety and Health Training—Western United States, Request for Application (RFA) OH10-001, Initial Review

In accordance with section 10(a)(2) of the Federal Advisory Committee Act (Pub. L. 92-463), the Centers for Disease Control and Prevention (CDC), announces the aforementioned meeting:

Time and Date: 8:30 a.m.-5 p.m., June 15, 2010 (Closed).

Place: Hyatt Regency Pittsburgh International Airport, 1111 Airport Boulevard, Pittsburgh, Pennsylvania 15231.

Status: The meeting will be closed to the public in accordance with provisions set forth in Section 552b(c)(4) and (6), Title 5, U.S.C., and the Determination of the Director, Management Analysis and Services Office, CDC, pursuant to Section 10(d) of Public Law 92-463.

Matters To Be Discussed: The meeting will include the initial review, discussion, and evaluation of applications received in response to “Miner Safety and Health Training Program—Western United States, RFA OH10-001.”

Agenda items are subject to change as priorities dictate.

Contact Person For More Information: S. Price Connor, PhD, Scientific Review Officer, Office of Extramural Programs, CDC, 1600 Clifton Road, NE., Mailstop E-74, Atlanta, Georgia 30333, Telephone (404) 498-2511.

The Director, Management Analysis and Services Office has been delegated the authority to sign Federal Register notices pertaining to announcements of meetings and other committee management activities for both CDC and the Agency for Toxic Substances and Disease Registry.

Dated: May 18, 2010.
Elaine L. Baker,
Director, Management Analysis and Services Office, Centers for Disease Control and Prevention.

[FR Doc. 2010-12564 Filed 5-24-10; 8:45 am]

BILLING CODE 4163-18-P